ENVIRONMENTAL PROTECTION AGENCY

[ER-FRL-6682-5]

Environmental Impacts Statements; Notice of Availability

Responsible Agency: Office of Federal Activities, General Information (202) 564-7167 or http://www.epa.gov/compliance/nepa/. Weekly receipt of Environmental Impact Statements filed 12/18/2006 through 12/22/2006 pursuant to 40 CFR 1506.9.

EIS No. 20060526, Draft EIS, AFS, NM, Canadian River Tamarisk Control, Proposes to Control the Nonnative Invasive Species Tamarisk (also Known as salt cedar) Cibola National Forest, Canadian River, Harding and Mora Counties, New Mexico, Comment Period Ends: 02/12/2007, Contact: Keith Baker 505-346-3820

EIS No. 20060527, Final EIS, AFS, WI, Long Rail Vegetation and Transportation Management Project, Implementation, Eagle River-Florence Ranger District, Chequamegon-Nicolet National Forest, Florence and Forest Counties, WI, Wait Period Ends: 01/29/2007, Contact: Christine Brunner 714-479-2827 Ext 21

EIS No. 20060528, Final EIS, AFS, ID, Emerald Creek Garnet Area, To Provide a Public Recreational Area for Collecting Garnet Gemstone, U.S. Army COE Section 404 Permit, Idaho Panhandle National Forest, St. Joe Ranger District, Latah County, ID, Wait Period Ends: 01/29/2007, Contact: Tracy Gravelle 208-245-4517

EIS No. 20060529, Final EIS, AFS, OR, Maury Mountains Allotment Management Plan, To Implement or Eliminate Livestock Grazing in Six Allotments in the Maury Mountains of the Ochoco National Forest, Prineville, OR, Wait Period Ends: 01/29/2007, Contact: Kevin Keown 541-416-6484

EIS No. 20060530, Final EIS, USA, MD, U.S. Army Medical Research Institute of Infectious Diseases (USAMRIID), Construction and Operation of New USAMRIID Facilities and Decommissioning and Demolition and/or Re-use of Existing USAMRIID Facilities, Fort Detrick, MD, Wait Period Ends: 01/29/2007, Contact: Dave Hand 410-962-8154

EIS No. 20060531, Final EIS, FRC, OR, Clackamas River Hydroelectric Project, Application for Relicensing of a Existing 173 megawatt(MS) Project, (FERC No. 2195-011) Clackamas River Basin, Clackamas County, OR, Wait Period Ends: 01/29/2007 Contact: Andy Black 1-866-208-3372

EIS No. 20060532, Final EIS, BIA, AK, Cordova Oil Spill Response Facility, Construct an Oil Spill Response Facility at Shepard Point, NPDES Permit and U.S. Army COE Section 10 and 404 Permits, Cordova, AK, Wait Period Ends: 01/29/2007, Contact: Kristin K'eit 907-586-7423

EIS No. 20060533, Final EIS, FHW, VA, I-73 Location Study, between Roanoke and the North Carolina State Line Commonwealth of Virginia, Construction and Operation, Cities of Roanoke and Martinsville, Counties of Bedford, Botetourt, Franklin, Henry, and Roanoke, VA, Wait Period Ends: 01/29/2007, Contact: Edward Sundra 804-775-3338

EIS No. 20060534, Final EIS, NOA, 00, Gulf of Mexico Red Snapper Total Allowable Catch and Reduce Bycatch in the Gulf of Mexico Directed and Shrimp Trawl Fisheries, To Evaluate Alternatives, Gulf of Mexico, Wait Period Ends: 01/29/2007, Contact: Roy E. Crabtree 727-824-5301

EIS No. 20060535, Draft EIS, FHW, ID, U.S.-95 Garwood to Sagle (from MP-438.4 to MP 469.75) Transportation Improvements to Present and Future Traffic Demand, Funding, NPDES Permit and U.S. Army COE Section 404 Permit, Kootenai and Bonner Counties, ID, Comment Period Ends: 02/15/2007, Contact: Paul Ziman 208-334-1843

EIS No. 20060536, Final EIS, FTA, TX, North Corridor Fixed Guideway Project, Propose Transit Improvements from University of Houston (UH)-Downtown Station to Northline Mall, Harris County, TX, Wait Period Ends: 01/29/2007, Contact: John Sweek 817-978-0550

EIS No. 20060537, Final EIS, COE, CA, American River Watershed, Lower American River Common Features Mayhew Levee Project, Reconstruction, Sacramento County, CA , Wait Period Ends: 01/29/2007, Contact: Elizabeth Holland 916-557-6712

EIS No. 20060538, Final EIS, FRC, SC, Casotte Landing Liquefied Natural Gas (LNG) Import and Interstate Natural Gas Transmission Facilities, Construction and Operation, U.S. Army COE Section 404 Permit, (FERC/EIS-0193D), near the City of Pascagoula, Jackson County, MS, Wait Period Ends: 01/29/2007, Contact: Andy Black 1-866-208-3372

Amended Notices

EIS No. 20060489, Final EIS, COE, 00, Lock and Dam 3 Mississippi River Navigation Safety and Embankments, To Reduce Related Navigation Safety and Embankment Problems, Upper Mississippi River, Goodhue County, MN and Pierce County, WI, Wait Period Ends: 01/12/2007, Contact: Daniel Wilcox 651-290-5276 Revision of FR Notice Published 12/01/2006: Correction to Wait Period from 01/02/2007 to 01/12/2007

Dated: December 26, 2006.
Ken Mittelholtz,
Environmental Protection Specialist, Office of Federal Activities.

[FR Doc. E6-22411 Filed 12-28-06; 8:45 am]

BILLING CODE 6560-50-P